ENVIRONMENTAL PROTECTION AGENCY

[CERCLA-04-2024-7016 et al.; FRL-12337-01-R4]

Bennett Landfill Fire Superfund Site, Chester, South Carolina; Proposed Settlements

AGENCY: Environmental Protection Agency (EPA).

ACTION: Notice of proposed settlements.

SUMMARY: Under the Comprehensive Environmental Response, Compensation and Liability Act (CERCLA), the United States Environmental Protection Agency is proposing to enter into individual settlements with six parties concerning the Bennett Landfill Fire Site located in Chester, South Carolina. The proposed settlements address recovery of CERCLA costs for a cleanup that was performed at the Site and costs incurred by EPA.

DATES: The Agency will consider public comments on the proposed settlements until December 13, 2024. The Agency will consider all comments received and may modify or withdraw its consent to the proposed settlements if comments received disclose facts or considerations which indicate that the proposed settlement is inappropriate, improper, or inadequate.

ADDRESSES: Copies of the proposed settlements are available from the Agency by contacting Ms. Paula V. Painter, Program Analyst, using the contact information provided in this notice.

Comments may also be submitted by referencing the Site's name through one of the following methods:

Internet: https://www.epa.gov/aboutepa/about-epa-region-4-southeast#r4-public-notices

Email: Painter.Paula@epa.gov

FOR FURTHER INFORMATION CONTACT: Paula V. Painter at 404/562-8887.

SUPPLEMENTARY INFORMATION: The individual proposed settlements are as follows: Upstate Environmental Services, Inc., 04-2024-7012(b); NEO Corporation, 04-2024-7013(b); CHSPSC, LLC, 04-2024-7015; Madison Acquisitions, LLC, Cherokee Plaza Partners, and Tristate SC One, LP, together under 04-2024-7016.

Maurice Horsey,
Chief, Enforcement Branch, Superfund & Emergency Management Division.

[FR Doc. 2024-26225 Filed 11-12-24; 8:45 am]

BILLING CODE 6560-50-P